DEPARTMENT OF THE INTERIOR

National Park Service

[NPS-WASO-NAGPRA-NPS0039345; PPWOCRADN0-PCU00RP14.R50000]

Notice of Inventory Completion: Federal Bureau of Investigation, Portland Maine Resident Agency, Portland, ME

AGENCY: National Park Service, Interior.

ACTION: Notice.

SUMMARY: In accordance with the Native American Graves Protection and Repatriation Act (NAGPRA), the Federal Bureau of Investigation, Portland Maine Resident Agency (FBI Maine) has completed an inventory of human remains and associated funerary objects and has determined that there is a cultural affiliation between the human remains and associated funerary objects and Indian Tribes or Native Hawaiian organizations in this notice.

DATES: Repatriation of the human remains and associated funerary objects in this notice may occur on or after February 18, 2025.

ADDRESSES: Special Agent Dale D. Wengler, Federal Bureau of Investigation, Portland Maine Resident Agency, 100 Middle Street, Suite 400, Portland, ME 04101, telephone (207) 541-0702, email ddwengler@fbi.gov.

SUPPLEMENTARY INFORMATION: This notice is published as part of the National Park Service's administrative responsibilities under NAGPRA. The determinations in this notice are the sole responsibility of the FBI Maine, and additional information on the determinations in this notice, including the results of consultation, can be found in its inventory or related records. The National Park Service is not responsible for the determinations in this notice.

Abstract of Information Available

Human remains representing at least one individual has been identified. In May of 2022, a human scalp with an associated tag containing the following inscription “MESCALLARO APACHE SCALP. KILLED AT JOHNSON'S RUN TEXAS SENT TO FRANK OWENS. BY LANCE BREWINGTON. FORMER MAYSVILLE MAN ABOVE TOLD ME BY LANCE B. AT JOPLIN MO 1899 W.W. GIBSON” was obtained by the FBI through a federal search warrant after the scalp was offered for sale through an auction house in Maine. After conducting extensive forensic testing, the FBI Laboratory confirmed the scalp was human head hairs with Asian/Native American ancestral characteristics. The one associated funerary object is a beaded pipe bag that was contained with the human scalp and was also offered for sale at the auction house. The items belonged to a widow in New Mexico who was unaware that her husband had been in possession of them. The items had been grouped and consigned for sale along with many of her deceased husband's personal property by an auction house in Maine. Upon seizure by the FBI, the items have been preserved and maintained in accordance with evidence policies and procedures.

Cultural Affiliation

Based on the information available and the results of consultation, cultural affiliation is reasonably identified by the geographical location or acquisition history of the human remains and associated funerary objects described in this notice.

Determinations

The FBI Maine has determined that:

• The human remains described in this notice likely represent the physical remains of one individual of Native American ancestry.

• The one object described in this notice is reasonably believed to have been placed intentionally with or near individual human remains at the time of death or later as part of the death rite or ceremony.

• There is a connection between the human remains and associated funerary objects described in this notice and the Mescalero Apache Tribe of the Mescalero Reservation, New Mexico.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 18, 2025. If competing requests for repatriation are received, the FBI Maine must determine the most appropriate requestor prior to repatriation. Requests for joint repatriation of the human remains and associated funerary objects are considered a single request and not competing requests. The FBI Maine is responsible for sending a copy of this notice to the Indian Tribes and Native Hawaiian organizations identified in this notice.

Authority: Native American Graves Protection and Repatriation Act, 25 U.S.C. 3003, and the implementing regulations, 43 CFR 10.10.

Dated: January 14, 2025.
Melanie O'Brien,
Manager, National NAGPRA Program.

[FR Doc. 2025-01227 Filed 1-16-25; 8:45 am]

BILLING CODE 4312-52-P